DEPARTMENT OF HOMELAND SECURITY

[Docket No. CISA-2021-0011]

Notice of Cancellation of the President's National Infrastructure Advisory Council Meeting

AGENCY: Cybersecurity and Infrastructure Security Agency (CISA), Department of Homeland Security (DHS).

ACTION: Notice of cancellation of a Federal Advisory Committee Act (FACA) meeting.

SUMMARY: CISA announces the cancellation of the public meeting of the President's National Infrastructure Advisory Council (NIAC) scheduled for July 23, 2021.

DATES: This meeting was announced in the Federal Register on June 16, 2021 (86 FR 32053).

FOR FURTHER INFORMATION CONTACT: Rachel Liang, Rachel.Liang@cisa.dhs.gov; 202-936-8300.

SUPPLEMENTARY INFORMATION: CISA gives notice under the Federal Advisory Committee Act, 5 U.S.C. app. 2, that the virtual meeting of the President's National Infrastructure Advisory Council set to be held on July 23, 2021 has been cancelled.

Rachel Liang,
Designated Federal Officer, President's National Infrastructure Advisory Council, Cybersecurity and Infrastructure Security Agency, Department of Homeland Security.

[FR Doc. 2021-15206 Filed 7-16-21; 8:45 am]

BILLING CODE 9110-9P-P